NUCLEAR REGULATORY COMMISSION

Advisory Committee on Reactor Safeguards; Meeting Notice

In accordance with the purposes of Sections 29 and 182b. of the Atomic Energy Act (42 U.S.C. 2039, 2232b), the Advisory Committee on Reactor Safeguards (ACRS) will hold a meeting on November 5-8, 2003, 11545 Rockville Pike, Rockville, Maryland. The date of this meeting was previously published in the Federal Register on Monday, November 20, 2002 (67 FR 70094).

Wednesday, November 5, 2003 (Closed)

10:15 a.m.-7 p.m.: Safeguards and Security (Closed)—The Committee will meet with representatives of the Office of Nuclear Regulatory Research and the Office of Nuclear Security and Incident Response to discuss safeguards and security matters. Also, the Committee will discuss a proposed ACRS report on safeguards and security matters.

Thursday, November 6, 2003, Conference Room T-2B3, Two White Flint North, Rockville, Maryland

8:30 a.m.-8:35 a.m.: Opening Remarks by the ACRS Chairman (Open)—The ACRS Chairman will make opening remarks regarding the conduct of the meeting.

8:35 a.m.-10:30 a.m.: Proposed Resolution of Generic Safety Issue 189, “Susceptibility of Ice Condenser and Mark III Containments to Early Failure from Hydrogen Combustion During a Severe Accident” (Open)—The Committee will hear presentations by and hold discussions with representatives of the NRC staff on their proposed resolution of GSI-189.

10:45 a.m.-11:45 a.m.: Draft Final Regulatory Guide 1.32, Revision 3, “Criteria for Power Systems for Nuclear Plants” (Open)—The Committee will hear presentations by and hold discussions with representatives of the NRC staff regarding Regulatory Guide 1.32 which endorses IEEE Standard 308-2001, “Criteria for Class 1E Power Systems for Nuclear Generating Systems.” The guide reflects the one public comment received during the public period which ended during July 2003.

12:45 p.m.-2:45 p.m.: Mixed Oxide Fuel Fabrication Facility (Open)—The Committee will hear presentations by and hold discussions with representatives of the NRC staff and the license applicant regarding the issuance of the Safety Evaluation Report (SER) for the proposed MOX Fuel Fabrication Facility.

3 p.m.-5 p.m.: Advanced Non-Light Water Reactor Licensing Framework (Open)—The Committee will hear presentations by and hold discussions with representatives of the NRC staff and the license applicant regarding their progress in the development of a technology neutral, risk-informed and performance-based approach for licensing future non-LWR reactor designs.

5:15 p.m.-5:45 p.m.: Subcommittee Report on the R. E. Ginna License Renewal Application (Open)—The Committee will hear a report by and hold discussions with the Chairman of the ACRS Subcommittee on Plant License Renewal regarding the review of the R. E. Ginna License Renewal Application.

5:45 p.m.-6 p.m.: Review of the NRC Safety Research Program Report (Open)—The Chairman of the Safety Research Program Subcommittee will discuss the progress to date on the annual ACRS report to the Commission on the NRC Safety Research Program.

6 p.m.-7:30 p.m.: Preparation of ACRS Reports (Open/Closed)—The Committee will discuss proposed ACRS reports on matters considered during this meeting. In addition, the Committee will discuss a proposed ACRS report on safeguards and security matters (Closed).

Friday, November 7, 2003, Conference Room T-2B3, Two White Flint North, Rockville, Maryland

8:30 a.m.-8:35 a.m.: Opening Remarks by the ACRS Chairman (Open)—The ACRS Chairman will make opening remarks regarding the conduct of the meeting.

8:35 a.m.-10 a.m.: Early Site Permit Review Standard (Open)—The Committee will hear presentations by and hold discussions with representatives of the NRC staff regarding the public comments on the draft standard and the efficacy of the standard as noted in the early site permit applications received to date.

10:15 a.m.-12 Noon: Effectiveness of Resolution of USI-A-45, “Shutdown Decay Heat Removal Requirements” (Open)—The Committee will hear an information briefing by the NRC staff on the effectiveness of the resolution of USI-A-45.

1 p.m.-2 p.m.: ACRS Retreat in 2004 (Open)—The Committee will discuss scope, topics, dates and location of a possible 2004 ACRS Retreat.

2 p.m.-2:45 p.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, including anticipated workload and member assignments.

2:45 a.m.-3 p.m.: Reconciliation of ACRS Comments and Recommendations (Open)—The Committee will discuss the responses from the NRC Executive Director for Operations (EDO) to comments and recommendations included in recent ACRS reports and letters. The EDO responses are expected to be made available to the Committee prior to the meeting.

3 p.m.-4 p.m.: Task Force Report on Operating Experience (Open)—The Committee will receive an information briefing by the NRC staff on its task force report on operating experience.

4:15 p.m.-7:30 p.m.: Preparation of ACRS Reports (Open/Closed)—The Committee will discuss proposed ACRS reports on matters considered during this meeting. In addition, the Committee will discuss a proposed ACRS report on safeguards and security matters (Closed).

Saturday, November 8, 2003, Conference Room T-2B3, Two White Flint North, Rockville, Maryland

8:30 a.m.-1 p.m.: Preparation of ACRS Reports (Open/Closed)—The Committee will continue discussion of the proposed ACRS reports on matters considered during its meeting. In addition, the Committee will discuss a proposed ACRS report on Safeguards and Security matters (Closed).

1 p.m.-1:15 p.m.: Miscellaneous (Open)—The Committee will discuss matters related to the conduct of Committee activities and matters and specific issues that were not completed during previous meetings, as time and availability of information permit.

Procedures for the conduct of and participation in ACRS meetings were published in the Federal Register on October 16, 2003 (68 FR 59644). In accordance with those procedures, oral or written views may be presented by members of the public, including representatives of the nuclear industry. Electronic recordings will be permitted only during the open portions of the meeting. Persons desiring to make oral statements should notify the Associate Director for Technical Support named below five days before the meeting, if possible, so that appropriate arrangements can be made to allow necessary time during the meeting for such statements. Use of still, motion picture, and television cameras during the meeting may be limited to selected portions of the meeting as determined by the Chairman. Information regarding the time to be set aside for this purpose may be obtained by contacting the Associate Director for Technical Support prior to the meeting. In view of the possibility that the schedule for ACRS meetings may be adjusted by the Chairman as necessary to facilitate the conduct of the meeting, persons planning to attend should check with the Associate Director for Technical Support if such rescheduling would result in major inconvenience.

In accordance with Subsection 10(d) Pub. L. 92-463, I have determined that it is necessary to close portions of this meeting noted above to discuss and protect information classified as national security information as well as unclassified safeguards information pursuant to 5 U.S.C. 552b(c)(1) and (3).

Further information regarding topics to be discussed, whether the meeting has been canceled or rescheduled, as well as the Chairman's ruling on requests for the opportunity to present oral statements and the time allotted therefor can be obtained by contacting Dr. Sher Bahadur, Associate Director for Technical Support (301-415-0138), between 7:30 a.m. and 4:15 p.m., ET.

ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Videoteleconferencing service is available for observing open sessions of ACRS meetings. Those wishing to use this service for observing ACRS meetings should contact Mr. Theron Brown, ACRS Audio Visual Technician (301-415-8066), between 7:30 a.m. and 3:45 p.m., ET, at least 10 days before the meeting to ensure the availability of this service. Individuals or organizations requesting this service will be responsible for telephone line charges and for providing the equipment and facilities that they use to establish the videoteleconferencing link. The availability of videoteleconferencing services is not guaranteed.

Dated: October 20, 2003.
Andrew L. Bates,
Advisory Committee Management Officer.

[FR Doc. 03-26896 Filed 10-23-03; 8:45 am]

BILLING CODE 7590-01-P